DEPARTMENT OF EDUCATION

Applications for New Awards; Mental Health Service Professional Demonstration Grant Program

AGENCY: Office of Elementary and Secondary Education, Department of Education.

ACTION: Notice.

SUMMARY: The Department of Education (Department) is issuing a notice inviting applications for new awards for fiscal year (FY) 2025 funds for the Mental Health Service Professional Demonstration Grant program (MHSP).

DATES:

Applications Available: September 29, 2025.

Deadline for Transmittal of Applications: October 29, 2025.

The Department will post a preapplication presentation for prospective applicants. To access the preapplication presentation, visit the MHSP web page at https://www.ed.gov/grants-and-programs/grants-birth-grade-12/safe-and-supportive-schools/mental-health-service-professional-demonstration-grant-program.

ADDRESSES: For the addresses for obtaining and submitting an application, please refer to our Common Instructions for Applicants to Department of Education Discretionary Grant Programs, published in the Federal Register on August 29, 2025 (90 FR 42234) and available at https://www.federalregister.gov/documents/2025/08/29/2025-16571/common-instructions-and-information-for-applicants-to-department-of-education-discretionary-grant.

FOR FURTHER INFORMATION CONTACT: Nicole White, U.S. Department of Education, 400 Maryland Avenue SW, Washington, DC 20202-6450. Telephone: (202) 987-1594. Email: Mental.Health@ed.gov.

If you are deaf, hard of hearing, or have a speech disability and wish to access telecommunications relay services, please dial 7-1-1.

SUPPLEMENTARY INFORMATION:

Full Text of Announcement

I. Funding Opportunity Description

Purpose of Program: The MHSP program provides competitive grants to State educational agencies (SEAs, as defined in 20 U.S.C. 7801(49)) and local educational agencies (LEAs, as defined in 20 U.S.C. 7801(30)) to address the shortage of credentialed (as defined in the Notice of Final Priorities) school-based mental health services providers, specifically school psychologists, in high-need LEAs.

Assistance Listing Number: 84.184X.

OMB Control Number: 1894-0006.

Eligible Applicants: SEAs, as defined in 20 U.S.C. 7801(49), or LEAs, as defined in 20 U.S.C. 7801(30), including consortia of LEAs.

Application Requirements: These requirements are from the Notice of Final Priorities, Requirements, and Definitions (NFP) published elsewhere in this issue of the Federal Register.

(a) SEA applicants must identify in their applications the specific high-need LEAs that will benefit from the grant or describe how they will identify and select the high-need LEAs that will benefit from the grant.

(b) Applicants must describe in their applications a school-based mental health partnership designed to train school psychology graduate candidates and place them into participating high-need LEAs.

(c) Applicants must include in their applications the most recently available data on the number of school psychologists in the high-need LEA(s) and the projected number of school psychology graduate candidates that will be trained and placed into employment in the identified LEA(s) for each year of the plan using funds from this grant.

II. Award Information

Type of Award: Discretionary grants.

Estimated Available Funds: $90,000,000.

Contingent upon the availability of funds and the quality of applications, we may make additional awards in subsequent years from the list of unfunded applications from this competition.

Estimated Range of Awards: $750,000-$1,250,000.

Estimated Average Size of Awards: $1,000,000.

Estimated Number of Awards: 18-24.

Note: The Department is not bound by any estimates in this notice. Contingent upon the availability of funds and the quality of applications, the Department anticipates making awards for the full 48-months using available appropriations.

Project Period: Up to 48 months.

Background: Our Nation's schools should be safe and secure settings where children can learn and grow to their full potential. However, over the last several years the decline of children and youth mental health has become a serious concern for our Nation. Given the importance of improving child and youth mental health, this notice includes three priorities aimed at increasing State and local capacity to improve students' mental health. These priorities will provide funding to SEAs and LEAs to develop tailored strategies that enhance their school psychologist workforce pipeline.

Priorities:

This competition has three absolute priorities and one competitive preference priority. Absolute priorities 1, 2, and 3 are from the NFP published elsewhere in this issue of the Federal Register. The Competitive preference priority is from 34 CFR 75.227.

Absolute Priorities: For FY 2025 and any subsequent year in which we make awards from the list of unfunded applications from this competition, these priorities are absolute priorities. Under 34 CFR 75.105(c)(3), we consider only applications that meet Absolute Priorities 1 and 3, or applications that meet Absolute Priorities 2 and 3.

The Secretary intends to create two funding slates for MHSP applications, one slate for applications that meet Absolute Priorities 1 and 3 and a second slate for applications that meet Absolute Priorities 2 and 3. As a result, the Secretary may fund applications out of the overall rank order.

These priorities are:

Priority 1—Enhance SEA efforts to address shortages of school psychologists in high-need LEAs.

To meet this priority, an SEA applicant must propose a project designed to train and place school psychology graduate candidates into high-need LEAs for the purpose of fulfilling requirements necessary to complete a degree and obtain a license or certification as a credentialed school psychologist.

Priority 2—Expand the capacity of high-need LEAs to address shortages of school psychologists.

To meet this priority, the applicant must propose a project designed to train and place school psychology graduate candidates into high-need LEAs for the purpose of fulfilling requirements necessary to complete a degree and obtain a license or certification as a credentialed school psychologist.

Priority 3—Increase the number of credentialed school psychologists available to deliver early intervention mental health services and intensive mental health services in high-need LEAs.

To meet this priority, applicants must propose to increase the number of credentialed school psychologists available to engage in:

(a) Providing intensive mental health services and supports to individual students most in need of those services,

(b) Providing early intervention mental health services to address acute concerns and determine if intensive mental health services are needed.

Competitive Preference Priority: For FY 2025 and any subsequent year in which we make awards from the list of unfunded applications from this competition, this priority is a competitive preference priority. Under 34 CFR 75.105(c)(2)(i), we award an additional 3 points to an application that meets the priority.

An applicant must clearly identify in the project abstract and the project narrative section of its application if it wishes the Department to consider it for purposes of earning competitive preference priority points.

This priority is:

Rural Applicants (0 or 3 points).

Under this priority, an applicant must demonstrate the following:

(a) The applicant proposes to serve a community that is served by one or more LEAs—

(i) With a National Center for Education Statistics (NCES) locale code of 32, 33, 41, 42, or 43; or

(ii) With a NCES locale code of 41, 42, or 43.

Program Requirements:

These program requirements are from the NFP published elsewhere in this issue of the Federal Register.

(a) Eligible applicants for this program are one or both of SEAs, as defined in 20 U.S.C. 7801(49), or LEAs, as defined in 20 U.S.C. 7801(30), including consortia of LEAs.

(b) Applicants that receive an award under this program must use grant funds to supplement, and not supplant, non-Federal funds that would otherwise be available for activities funded under this program.

(c) Administrative costs for SEA applicants that receive an award under this program may not exceed 10 percent of the annual grant award. Administrative costs for applicants that are LEAs and consortia of LEAs may not exceed five percent of the annual grant award.

(d) Applicants that receive an award under this program are prohibited from using program funds for: (1) gender ideology, (2) political activism, (3) racial stereotyping, or (4) hostile environments for students of particular races.

(e) Applicants that receive an award under this program must provide within six months of award a memorandum of understanding (MOU), a memorandum of agreement (MOA), or letter of agreement documenting the applicant's school-based mental health partnership, as defined in this notice to the Department. The agreement must be signed by each entity's authorized representative. The agreement must detail each entity's roles and responsibilities in training and placing school psychology graduate candidates into high-need LEAs to achieve the goals and objectives of the project.

(f) Applicants that receive an award under the program must comply with section 4001(a) of Title IV of the Elementary and Secondary Education Act of 1965, as amended (ESEA). In carrying out the Informed Written Consent requirements described in paragraph (a)(1), the exception in (a)(2)(B)(i) only applies after the applicant has documented that it has made multiple repeated attempts through various communication methods to obtain parent consent. Subsequently, where parent consent is not obtained under (a)(2), not including the provisions in (a)(2)(B)(ii), the parent of a child participating in such services will be provided notice of initial and subsequent service delivery.

(g) Applicants that receive an award under this program must ensure that any school psychologist or any school psychology graduate candidate offering services does so in a manner consistent with the Family Educational Rights and Privacy Act (FERPA), the Protection of Pupil Rights Amendment (PPRA), the Individuals with Disabilities Education Act (IDEA), Section 504 of the Rehabilitation Act, and the Americans with Disabilities Act, as well as all other applicable Federal, State, and local laws.

Selection Criteria:

The selection criteria for this competition are from 34 CFR 75.210. The points assigned to each criterion are indicated in the parentheses next to the criterion. An applicant may earn up to a total of 100 points based on the selection criteria. Non-Federal peer reviewers will evaluate and score each application program narrative against the following selection criteria:

(a) Need for the project. (Up to 20 points)

The Secretary considers the need for the proposed project.

(1) In determining the need for the proposed project, the Secretary considers the extent to which the specific nature and magnitude of gaps or challenges are identified and the extent to which these gaps or challenges will be addressed by the services, supports, infrastructure, or opportunities described in the proposed project.

(b) Quality of the project design. (Up to 30 points)

The Secretary considers the quality of the design of the proposed project. In determining the quality of the design of the proposed project, the Secretary considers one or more of the following factors:

(i) The extent to which the goals, objectives, and outcomes to be achieved by the proposed project are clearly specified, measurable, and ambitious yet achievable within the project period, and aligned with the purposes of the grant program. (Up to 20 points)

(ii) The extent to which the proposed project demonstrates that it is designed to build capacity and yield sustainable results that will extend beyond the project period. (Up to 10 points)

(c) Adequacy of resources. (Up to 30 points)

The Secretary considers the adequacy of resources for the proposed project. In determining the adequacy of resources for the proposed project, the Secretary considers one or more of the following factors:

(i) The extent to which the budget is adequate to support the proposed project and the costs are reasonable in relation to the objectives, design, and potential significance of the proposed project. (Up to 20 points)

(ii) The extent to which the costs are reasonable in relation to the number of persons to be served, the depth and intensity of services, and the anticipated results and benefits. (Up to 10 points)

(d) Quality of the management plan. (Up to 20 points)

The Secretary considers the quality of the management plan for the proposed project. In determining the quality of the management plan for the proposed project, the Secretary considers one or more of the following factors:

(i) The feasibility of the management plan to achieve project objectives and goals on time and within budget, including clearly defined responsibilities, timelines, and milestones for accomplishing project tasks. (Up to 10 points)

(ii) The extent to which the time commitments of the project director and principal investigator and other key project personnel are appropriate and adequate to meet the objectives of the proposed project. (Up to 10 points)

Performance Measures: The Department has established the following performance measures for Department reporting under 34 CFR 75.110 for the Mental Health Service Professional Demonstration Grant Program:

(a) The unduplicated, cumulative number of school psychologists trained by the grantee under the project to provide school-based mental health services in high-need LEAs.

(b) The unduplicated, cumulative number of school psychologists placed in a practicum or internship by the grantee in high-need LEAs to provide school-based mental health services.

(c) The unduplicated, cumulative number of school psychologists hired by high-need LEAs to provide school-based mental health services.

These measures constitute the Department's indicators of success for this program. Consequently, we advise an applicant for a grant under this program to give careful consideration to these measures in conceptualizing the approach and evaluation for its proposed project. Each grantee will be required to provide, in its annual performance report, data about its progress in meeting these measures.

Performance measure targets: The applicant must propose annual targets for the measures listed above in their application. Applications must also provide the following information as directed under 34 CFR 75.110(b) and (c):

(1) An explanation of how each proposed performance target is ambitious (as defined in this notice) yet achievable compared to the baseline (as defined in this notice) for the performance measure.

(2) An explanation of the data collection and reporting methods the applicant would use and why those methods are likely to yield reliable, valid, and meaningful performance data; and

(3) An explanation of the applicant's capacity to collect and report reliable, valid, and meaningful performance data, as evidenced by high-quality data collection, analysis, and reporting in other projects or research.

Note: If the applicant does not have experience with the collection and reporting of performance data through other projects or research, the applicant should provide other evidence of capacity to successfully carry out data collection and reporting for its proposed project.

The reviewers of each application will score related selection criteria on the basis of how well an applicant has considered these measures in conceptualizing the approach and evaluation of the project.

All grantees must submit an annual performance report and final performance report with information that is responsive to these performance measures.

Definitions:

The definitions of “credentialed,” “early intervention mental health services,” “eligible institution of higher education partner,” “high-need LEA,” “intensive mental health services, “school psychology graduate candidate,” and “school-based mental health partnership” are from the NFP published elsewhere in this issue of the Federal Register. The definitions of “local educational agency” and State educational agency are from 20 U.S.C. 7801.

Credentialed means an individual who possesses a valid license or certificate from the SEA or relevant regulatory body as a school psychologist approved by the State to provide services aligned with the practice of school psychology.

Early intervention mental health services mean services for students who are exhibiting signs of distress or impairment or are at heightened risk of needing mental health services. Based on current best practices in school psychology for serving an individual student, early intervention mental health services may include, for example, screening and referrals, small group services, and brief individualized interventions.

Eligible institution of higher education partner means an institution of higher education as defined in 20 U.S.C. 1002 that offers a program of study that leads to a master's degree or other graduate degree in school psychology that prepares graduate candidates for a State credential as a school psychologist.

High-need LEA means an LEA that has a significant need for additional school psychologists based on:

(a)(1) a ratio of students to school psychologists that exceeds a ratio of 500 students to 1 school psychologist and (2) high rates of school violence, poverty, substance use, suicide, trafficking, or other adverse childhood experiences;

(b) having received a Project School Emergency Response to Violence (SERV) grant from the U.S. Department of Education since October 1, 2020; or

(c) having experienced a traumatic event since January 1, 2025, and did not receive a Project School Emergency Response to Violence (SERV) grant from the U.S. Department of Education.

Intensive mental health services mean services for students with identified mental health needs that limit engagement throughout the school day. Based on the best clinical approach to serving an individual student, intensive mental health services may include, for example, individual, group, or family therapy services, or coordination of services with providers serving the student in a non-school setting.

Local educational agency means a public board of education or other public authority legally constituted within a State for either administrative control or direction of, or to perform a service function for, public elementary schools or secondary schools in a city, county, township, school district, or other political subdivision of a State, or of or for a combination of school districts or counties that is recognized in a State as an administrative agency for its public elementary schools or secondary schools.

(1) The term includes any other public institution or agency having administrative control and direction of a public elementary school or secondary school.

(2) The term includes an elementary or secondary school funded by the Bureau of Indian Education but only to the extent that including the school makes the school eligible for programs for which specific eligibility is not provided to the school in another provision of law and the school does not have a student population that is smaller than the student population of the LEA receiving assistance under the Elementary and Secondary Education Act of 1965, as amended (ESEA) with the smallest student population, except that the school shall not be subject to the jurisdiction of any SEA other than the Bureau of Indian Education.

(3) The term includes educational service agencies and consortia of those agencies.

(4) The term includes the SEA in a State in which the SEA is the sole educational agency for all public schools.

School psychology graduate candidate means an individual who is (a) pursuing a Master's degree, or State-recognized equivalent, in school psychology and (b) will be eligible upon completion of the program for a license or certification from a State or national credentialing authority as a school psychologist approved by the State to deliver school-based mental health services.

School-based mental health partnership is the formal relationship, established for the purpose of training and placing school psychology graduate candidates into high-need LEAs, between the eligible applicant (one or more high-need LEAs or an SEA) and its partners, who must include:

(a) One or more eligible institutions of higher education partners, as defined in this notice, or

(b) One or more entities, recognized by the State, to train and prepare school psychology graduate candidates for a school psychology credential; or

(c) State entities such as Governors, State workforce development agencies or boards, State vocational rehabilitation agencies, or State higher education agencies.

State educational agency means the agency primarily responsible for the State supervision of public elementary schools and secondary schools.

Program Authority: Section 4631(a)(1)(B) of the ESEA (20 U.S.C. 7281(a)(1)(B)).

Note: Projects will be awarded and must be operated in a manner consistent with the nondiscrimination requirements contained in Federal civil rights laws.

Applicable Regulations: (a) The Education Department General Administrative Regulations in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The NFP.

1. a. Cost Sharing or Matching: This competition does not require cost sharing or matching.

b. Supplement-Not-Supplant: This competition's supplement, supplant requirement is described in the Program Requirements section of this notice.

c. Indirect Cost Rate Information: This program uses an unrestricted indirect cost rate. For more information regarding indirect costs, or to obtain a negotiated indirect cost rate, please see www2.ed.gov/about/offices/list/ocfo/intro.html.

d. Administrative Cost Limitation: This program's Administrative Cost Limitation is described above in the Program Requirements section of this notice.

2. Subgrantees: A grantee under this competition may not award subgrants to entities to directly carry out project activities described in its application.

III. Application and Submission Information

1. Application Submission Instructions: Applicants are required to follow the Common Instructions for Applicants to Department of Education Discretionary Grant Programs, published in the Federal Register on August 29, 2025 (90 FR 42234) and available at https://www.federalregister.gov/documents/2025/08/29/2025-16571/common-instructions-and-information-for-applicants-to-department-of-education-discretionary-grant, which contain requirements and information on how to submit an application.

2. Intergovernmental Review: This competition is subject to Executive Order 12372 and the regulations in 34 CFR part 79. Information about Intergovernmental Review of Federal Programs under Executive Order 12372 is in the application package for this competition. However, under 34 CFR 79.8(a), we waive intergovernmental review in order to make an award by the end of FY 2025.

3. Funding Restrictions: Section 4001(b) prohibits the use of funds for medical services or drug treatment or rehabilitation, except for integrated student supports, specialized instructional support services, or referral to treatment for impacted students, which may include students who are victims of, or witnesses to, crime or who illegally use drugs. This prohibition does not preclude the use of funds to support mental health counseling and support services, including those provided by a mental health services provider outside of school, so long as such services are not medical.

4. Recommended Page Limit: The application narrative is where you, the applicant, address the selection criteria that reviewers use to evaluate your application. We recommend that you (1) limit the application narrative to no more than 15 pages and (2) follow the formatting standards described in the Common Instructions for Applicants to Department of Education Discretionary Grant Programs.

The recommended page limit does not apply to the cover sheet; the budget section, including the narrative budget justification; the assurances and certifications; the one-page abstract, resumes, bibliography, charts with timelines and milestones, or letters of support. However, the recommended page limit does apply to all of the application narrative.

IV. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, Braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Hayley B. Sanon,
Principal Deputy Assistant Secretary and Acting Assistant Secretary, Office of Elementary and Secondary Education.

[FR Doc. 2025-18894 Filed 9-26-25; 8:45 am]

BILLING CODE 4000-01-P